DEPARTMENT OF STATE

[PUBLIC NOTICE 3786]

Notice of Postponement of Meeting of the Cultural Property Advisory Committee

AGENCY: Department of State.

ACTION: Notice.

Due to extenuating circumstances, the meeting of the Cultural Property Advisory Committee scheduled for Thursday, September 20, and Friday September 21, 2001, at the Department of State to review the proposal to extend the “Agreement between the Government of the United States of America and the Government of Canada Concerning the Imposition of Import Restrictions on Certain Categories of Archaeological and Ethnological Material” has been postponed. The meeting will be re-scheduled and a new notice will be published in the Federal Register. The original notice was published on August 7, 2001, Vol. 66, No. 152. Further information about this agreement and related cultural property information may be found at this web site: http://exchanges.state.gov/education/culprop.

Dated: September 17, 2001.
Helena Kane Finn,
Acting Assistant Secretary for Educational and Cultural Affairs, Department of State.

[FR Doc. 01-23487 Filed 9-18-01; 8:45 am]

BILLING CODE 4710-11-P